DEPARTMENT OF THE INTERIOR

Geological Survey

Notice of an Open Meeting of the Advisory Committee on Water Information (ACWI)

SUMMARY: Notice is hereby given of a meeting of the ACWI. This meeting is to discuss broad policy-related topics relating to national water initiatives, and the development and dissemination of water information, through reports from ACWI subgroups. The agenda will include status of a proposal from the ACWI Subcommittee on Ground Water; discussion of a new Extreme Storms subgroup proposed within the Subcommittee on Hydrology; status of the National Monitoring Network for U.S. Coastal Waters and their Tributaries; request for ACWI approval of an update to the Water Quality Data Elements User Guide that would include physical habitat elements; discussion of ACWI participation in the National Environmental Status and Trends indicators project; and updates on recent activities of the Methods and Data Comparability Board.

The ACWI was established under the authority of the Office of Management and Budget Memorandum M92-01 and the Federal Advisory Committee Act. The purpose of the ACWI is to provide a forum for water information users and professionals to advise the Federal Government on activities and plans that may improve the effectiveness of meeting the Nation's water information needs. Member organizations help to foster communications between the Federal and non-Federal sectors on sharing water information.

Membership, limited to 35 organizations, represents a wide range of water resources interests and functions. Representation on the ACWI includes all levels of government, academia, private industry, and professional and technical societies. For more information on the ACWI, its membership, subgroups, meetings and activities, please see the Web site at: http://ACWI.gov.

DATES: The formal meeting will convene at 9 a.m. on February 10, 2009, and will adjourn at 12 noon on February 11, 2009. The meeting will be followed by a public forum on the National Environmental Status and Trends Indicators project, which will begin at 1 p.m. on February 11, 2009 and adjourn at 12 noon on February 12, 2009.

ADDRESSES: The meeting will be held in the Reston, Virginia, area, within a few miles of Dulles International Airport. Information on the exact location can be obtained from Ms. Wendy E. Norton, ACWI Executive Secretary, whose contact information is shown below.

FOR FURTHER INFORMATION CONTACT: Ms. Wendy E. Norton, ACWI Executive Secretary and Chief, Water Information Coordination Program, U.S. Geological Survey, 12201 Sunrise Valley Drive, MS 417, Reston, VA 20192. Telephone: 703-648-6810; Fax: 703-648-5644; e-mail: wenorton@usgs.gov.

SUPPLEMENTARY INFORMATION: This meeting is open to the public. Up to a half hour will be set aside for public comment. Persons wishing to make a brief presentation (up to 5 minutes) are asked to provide a written request with a description of the general subject to Ms. Norton at the above address no later than February 3, 2009. It is requested that 65 copies of a written statement be submitted at the time of the meeting for distribution to members of the ACWI and placement in the official file. Any member of the public may submit written information and (or) comments to Ms. Norton for distribution at the ACWI meeting.

Dated: January 16, 2009.
Katherine Lins,
Chief, Office of Water Information.

[FR Doc. E9-1624 Filed 1-23-09; 8:45 am]

BILLING CODE 4311-AM-P